DEPARTMENT OF THE INTERIOR

Bureau of Indian Affairs

Mooretown Rancheria Alcoholic Beverage Control Law Amendment

AGENCY: Bureau of Indian Affairs, Interior.

ACTION: Notice.

SUMMARY: This notice publishes the Mooretown Rancheria Alcoholic Beverage Control Law Amendment as set forth by Resolution 98-16. The Mooretown Rancheria Alcoholic Beverage Control Law was originally published in the Federal Register of February 11, 2000. This amendment increases the tax on sales of alcoholic beverages from 1 percent of the amount actually collected, including payments by major credit cards, to an amount equal to the current sales tax rate of the State of California. Further, the amendment exempts a tribal enterprise, the Feather Falls Mini Mart, from application of the sales tax. This is in conformity with the laws of the State of California, where applicable and necessary. Although the amendment was adopted on January 3, 2002, it does not become effective until published in the Federal Register, because the failure to comply with the ordinance may result in criminal charges.

EFFECTIVE DATE: This amendment is effective on November 15, 2002.

FOR FURTHER INFORMATION CONTACT: Kaye Armstrong, Office of Tribal Services, 1849 C Street, NW., MS 4631-MIB, Washington, DC 20240-4001; telephone (202) 208-4400.

SUPPLEMENTARY INFORMATION: Pursuant to the Act of August 15, 1953, Pub. L. 83-277, 67 Stat. 586, 18 U.S.C. 1161, as interpreted by the Supreme Court in Rice v. Rehner,463 U.S. 713 (1983), the Secretary of the Interior shall certify and publish in the Federal Register notice of adopted liquor ordinances for the purpose of regulating liquor transactions in Indian country. The Mooretown Rancheria Alcoholic Beverage Control Law Amendment, Resolution No. 98-16, was duly adopted by the Tribal Council of the Mooretown Rancheria on January 3, 2002. The Mooretown Rancheria, in furtherance of its economic and social goals, has taken positive steps to regulate retail sales of alcohol and use revenues to combat alcohol abuse and its debilitating effects among individuals and family members within the Mooretown Rancheria.

This notice is published in accordance with the authority delegated by the Secretary of the Interior to the Assistant Secretary—Indian Affairs by 209 Departmental Manual 8.1.

I certify that by Resolution 98-16, the Mooretown Rancheria Alcoholic Beverage Control Law Amendment was duly adopted by the Mooretown Rancheria Tribal Council on January 3, 2002.

Dated: October 9, 2002.
Neal A. McCaleb,
Assistant Secretary—Indian Affairs.

The Mooretown Rancheria Alcoholic Beverage Control Law Amendment, Resolution No. 98-16, reads as follows:

Chapter VII—Taxes

Section 701. Sales Tax. There is hereby levied and shall be collected a tax on each sales of alcoholic beverages on the Rancheria in the amount equal to the current sales tax rate of the State of California. The tax imposed by this section shall apply to all retail sales of liquor on the Rancheria (except at Feather Falls Mini Mart) and shall preempt any tax imposed on such liquor sales by the State of California.

[FR Doc. 02-29083 Filed 11-14-02; 8:45 am]

BILLING CODE 4310-4J-P